SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB) Office of Management and Budget, Attn: Desk Officer for SSA. Fax: 202-395-6974. E-mail address: OIRA_Submission@omb.eop.gov.

(SSA) Social Security Administration, DCBFM, Attn: Reports Clearance Officer, 1333 Annex Building, 6401 Security Blvd., Baltimore, MD 21235. Fax: 410-965-6400. E-mail address: OPLM.RCO@ssa.gov.

I. The information collections below are pending at SSA. SSA will submit them to OMB within 60 days from the date of this notice. To be sure we consider your comments, we must receive them no later than March 29, 2011. Individuals can obtain copies of the collection instruments by calling the SSA Reports Clearance Officer at 410-965-8783 or by writing to the above e-mail address.

1. Statement Regarding the Inferred Death of an Individual by Reason of Continued and Unexplained Absence—20 CFR 404.720-721—0960-0002. Section 202(d)-(i) of the Social Security Act (Act) provides for the payment of various monthly survivor benefits and a lump sum death payment to certain survivors upon the death of an individual who dies while fully or currently insured. In cases where insured wage earners have been absent from their homes for at least seven years, and there is no evidence these individuals are alive, SSA may presume they are deceased and pay their survivors the appropriate benefits. SSA uses the information from Form SSA-723 to determine if we may presume a missing wage earner is deceased, and if so, establish a date of presumed death. The respondents are relatives, friends, neighbors, or acquaintances of the presumed deceased wage earner or the person who is filing for survivors benefits.

Type of Request: Revision of an OMB-approved information collection.

Number of Respondents: 3,000.

Frequency of Response: 1.

Average Burden per Response: 30 minutes.

Estimated Annual Burden: 1,500 hours.

2. Questionnaire for Children Claiming SSI Benefits—20 CFR 416.912(a)—0960-0499. Section 1631(d)(2) of the Act allows SSA to collect information to determine the eligibility of an applicant's claim for Supplemental Security Income (SSI) payments. Parents or legal guardians seeking to obtain or retain SSI eligibility for their children use Form SSA-3881-BK to provide SSA with the addresses of non-medical sources such as schools, counselors, agencies, organizations, or therapists who would have information about a child's functioning. SSA uses this information to help determine a child's claim or continuing eligibility for SSI. The respondents are applicants who appeal SSI childhood disability decisions or recipients undergoing a continuing disability review.

Type of Request: Extension of an OMB-approved information collection.

Number of Respondents: 253,000.

Frequency of Response: 1.

Average Burden Per Response: 30 minutes.

Estimated Annual Burden: 126,500 hours.

3. Electronic Benefit Verification Information (BEVE)—20 CFR 401.40—0960-0595. The electronic proof of income (POI) verification Internet service, BEVE, provides SSI recipients, Social Security beneficiaries, and Medicare beneficiaries the convenience of requesting a POI statement through the Internet. Beneficiaries and SSI recipients often require POI to obtain housing, food stamps, or other public services. After verifying the requestor's identity, SSA uses the information from BEVE to provide the POI statement. The respondents are Social Security beneficiaries, Medicare beneficiaries, and SSI recipients.

Type of Request: Revision of an OMB-approved information collection.

Number of Respondents: 870,958.

Frequency of Response: 1.

Average Burden per Response: 5 minutes.

Estimated Annual Burden: 72,580 hours.

II. SSA submitted the information collections listed below to OMB for clearance. Your comments on the information collections would be most useful if OMB and SSA receive them within 30 days from the date of this publication. To be sure we consider your comments, we must receive them no later than February 28, 2011. You can obtain a copy of the OMB clearance packages by calling the SSA Reports Clearance Officer at 410-965-8783 or by writing to the above e-mail address.

1. Advanced Notice of Termination of Child's Benefits & Student's Statement Regarding School Attendance—20 CFR 404.350-404.352, 404.367-404.368—0960-0105. SSA collects information on Forms SSA-1372-BK and SSA-1372-BK-FC to determine whether children of an insured worker meet the eligibility requirements for student benefits. The data we collect allows SSA to determine student entitlement and decide whether to terminate benefits. The respondents are student claimants for Social Security benefits, their respective schools, and in some cases, their representative payees.

Type of Request: Revision of an OMB-approved information collection.

SSA-1372-BK:

Type of respondent | Number of respondents | Frequency of response | Average burden per response (minutes) | Total annual burden (hours)
Individuals/Households | 99,850 | 1 | 8 | 13,313
State/Local/Tribal Government | 99,850 | 1 | 3 | 4,993
Totals | 199,700 |  |  | 18,306

SSA-1372-BK-FC:

Type of respondent | Number of respondents | Frequency of response | Average burden per response (minutes) | Total annual burden (hours)
Individuals/Households | 150 | 1 | 8 | 20
State/Local/Tribal Government | 150 | 1 | 3 | 8
Totals | 300 |  |  | 28

Total Burden: 18,334 hours.

2. Agreement to Sell Property—20 CFR 416.1240-416.1245—0960-0127. Individuals or couples who are otherwise eligible for SSI payments, but whose resources exceed the allowable limit, may receive conditional payments if they agree to dispose of the excess non-liquid resources and (in the case of current recipients) return excess SSI payments. SSA uses Form SSA-8060-U3 to document this agreement and to ensure the individuals understand their obligations. Respondents are applicants for and recipients of SSI payments who agree to dispose of excess non-liquid resources and return excess SSI payments.

Type of Request: Revision of an OMB-approved information collection.

Number of Respondents: 20,000.

Frequency of Response: 1.

Average Burden per Response: 10 minutes.

Estimated Annual Burden: 3,333 hours.

3. Reporting Events—SSI—20 CFR 416.701-.732—0960-0128. SSI applicants, recipients, or their representative payees must report any change in circumstances that could affect eligibility for SSI payments or the payment amount. SSA uses Form SSA-8150 for this purpose. The information assists us in determining if we should continue SSI payments or change a payment amount. The respondents are applicants for or recipients of SSI payments, or their representative payees.

Type of Request: Revision of an OMB-approved information collection.

Number of Respondents: 27,320.

Frequency of Response: 1.

Average Burden per Response: 5 minutes.

Estimated Annual Burden: 2,277 hours.

4. Modified Benefit Formula Questionnaire—0960-0395. Sections 215(a)(7) and 215(d)(3) of the Act specify how SSA computes benefits for retired and disabled workers receiving employment pensions not covered by Social Security. This is the Windfall Elimination Provision (WEP), which removes an unintended advantage in computing Social Security benefits for persons with substantial pensions from non-covered employment. SSA collects information on Form SSA-150 to determine the correct formula to use in computing the Social Security benefits for pensions subject to WEP. The respondents are applicants for title II benefits who have pensions from non-covered employment.

Type of Request: Revision of an OMB-approved information collection.

Number of Respondents: 90,000.

Frequency of Response: 1.

Average Burden per Response: 8 minutes.

Estimated Annual Burden: 12,000 hours.

5. Epidemiological Research Report—20 CFR 401.165—0960-0701. Section 311 of the Social Security Independence and Program Improvements Act of 1994 directs SSA to provide support to health researchers involved in epidemiological research. Specifically, when we determine a study contributes to a national health interest, SSA furnishes information to determine whether a study subject appears in SSA administrative records as alive or deceased (vital status). SSA charges a small fee per request for providing this information. Web-posted questions solicit the information SSA needs to provide the data and to collect the fees. The requestors are scientific researchers who are applying to receive vital status information about individuals from Social Security administrative data records.

Type of Request: Revision of an OMB-approved information collection.

Type of respondent | Number of respondents | Frequency of response | Average burden per response (minutes) | Total annual burden (hours)
State & Local Government | 15 | 1 | 120 | 30
Private Entities | 13 | 1 | 120 | 26
Federal Entities | 2 | 1 | 120 | 4
Totals | 30 |  |  | 60

Cost Burden

Average annual cost per respondent (based on SSA data): $3,665.

Total estimated annual cost burden: $109,950.

Dated: January 25, 2011.
Faye Lipsky,
Reports Clearance Officer, Center for Reports Clearance, Social Security Administration.

[FR Doc. 2011-1924 Filed 1-27-11; 8:45 am]

BILLING CODE 4191-02-P